DEPARTMENT OF THE INTERIOR

National Park Service

[NPS-WASO-NRNHL-DTS#-39797; PPWOCRADI0, PCU00RP14.R50000]

National Register of Historic Places; Notification of Pending Nominations and Related Actions

AGENCY: National Park Service, Interior.

ACTION: Notice.

SUMMARY: The National Park Service is soliciting electronic comments on the significance of properties nominated before March 15, 2025, for listing or related actions in the National Register of Historic Places.

DATES: Comments should be submitted electronically by April 17, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before March 15, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

COLORADO

Lake County

Twin Lakes District (Boundary Decrease), All or portions of Blocks 4-6, 9-11, 18-20, and a portion of 7th Street of the unincorporated Town of Twin Lakes. Colorado Highway 82 and Lake County Road 26 pass through the historic district.,Twin Lakes, BC100011731

ILLINOIS

Lake County

Libertyville Downtown Historic District, Ten Blocks in Downtown Libertyville Centered Around Milwaukee Ave, Libertyville, SG100011737

KANSAS

Douglas County

Baldwin City Downtown Historic District, Bounded by Grove Street to the north, 6th Street to the east, the alley behind High Street to the south, and 9th Street to the west., Baldwin City, SG100011708

Lyon County

McCarty, W.T. and Olivia, House, 1004 Rural Street, Emporia, SG100011717

Pawnee County

JG Edwards Building, 518 Broadway St, Larned, SG100011706

MINNESOTA

Otter Tail County

First Baptist Church, 101 West Summit Street, Battle Lake, SG100011725

NEW JERSEY

Monmouth County

Turf Club, 1200 Springwood Avenue, Asbury Park, SG100011730

NORTH CAROLINA

Guilford County

Elihu, Ann, and Abigail Mendenhall House, 1106 Skeet Club Road, High Point, SG100011736

OKLAHOMA

McIntosh County

Baccus House, 124331 S. 3981 Rd, Vernon, SG100011715

Tulsa County

Robert J. LaFortune Tower, (Tulsa Public Housing, 1966-1975 MPS), 1725 Southwest Blvd., Tulsa, MP100011716

WISCONSIN

Waukesha County

Blair, Senator William and Henrietta, House (Boundary Decrease), (Waukesha MRA), 434 Madison St., Waukesha, BC100011734

An owner objection received for the following resource(s):

MINNESOTA

Ramsey County

Hamm, Theodore, Brewing Company (Boundary Increase and Decrease), Minnehaha Ave. E. Between Payne Ave & Stroh Ave., St. Paul, BC100011735

A request for removal has been made for the following resource(s):

FLORIDA

Alachua County

WRUF Radio Station, Old, Museum Rd. and Newell Dr., Gainesville, OT89001479

MINNESOTA

Dodge County

Carlson, Ole, House, (Dodge County MRA), Hwy. 15, Kasson vicinity, OT82002944

Additional documentation has been received for the following resource(s):

ARKANSAS

Sebastian County

Wanslow, Robert, House (Additional Documentation), 2815 S Q St., Fort Smith, AD100002007

COLORADO

Lake County

Twin Lakes District (Additional Documentation), All or portions of Blocks 4-6, 9-11, 18-20, and a portion of 7th Street of the unincorporated Town of Twin Lakes. Colorado Highway 82 and Lake County Road 26 pass through the historic district., Twin Lakes, AD74000588

FLORIDA

Leon County

John Gilmore Riley House (Additional Documentation), 419 E. Jefferson St., Tallahassee, AD78000950

INDIANA

Monroe County

Bloomington West Side Historic District (Additional Documentation), Roughly bounded by W. 10th, N. Morton, W. 4th, and N. Adams Sts., Bloomington, AD97000055

IOWA

Dubuque County

St. Boniface of New Vienna Historic District (Additional Documentation), 7401 Columbus St., New Vienna, AD99001207

KANSAS

Johnson County

Broadmoor Ranch House Historic District (Additional Documentation), 6900-7017 W. 68th St., 6900-7001 W. 69th St., 6900-7019 W. 69th Terr., Overland Park, AD10001208

OKLAHOMA

McIntosh County

Dozier Mercantile Building, Broadway, Vernon, AD84003152

VIRGINIA

Richmond INDEPENDENT CITY

Monroe Ward (Additional Documentation), Roughly Main and Cary St., and 3rd to Jefferson Sts., Richmond (Independent City), AD99001717

WISCONSIN

Waukesha County

Blair, Senator William and Henrietta, House (Additional Documentation), (Waukesha MRA), 434 Madison St., Waukesha, AD83004327

Nomination(s) submitted by Federal Preservation Officers:

The State Historic Preservation Officer reviewed the following nomination(s) and responded to the Federal Preservation Officer within 45 days of receipt of the nomination(s) and supports listing the properties in the National Register of Historic Places.

COLORADO

San Miguel County

Burro Mine Complex, (Historic Radium, Uranium, and Vanadium Mining Resources in the Uravan Mineral Belt, Colorado MPS), Northern slope of Burro Canyon in rural western San Miguel County. Located off of San Miguel County Road 10S, north of the abandoned town of Slick Rock, Egnar vicinity, MP100011728

MONTANA

Phillips County

Zortman Ranger Station Historic District, Northwest End of Whitcomb Street, Zortman, SG100011723

Authority: 36 CFR 60.13.

Sherry A. Frear,
Chief, National Register of Historic Places/National Historic Landmarks Program.

[FR Doc. 2025-05569 Filed 4-1-25; 8:45 am]

BILLING CODE 4312-52-P